DEPARTMENT OF COMMERCE

National Oceanic and Atmospheric Administration

[RTID 0648-XQ010]

Virtual Meeting of the Advisory Committee to the U.S. Section to the International Commission for the Conservation of Atlantic Tunas' (ICCAT) Species Working Groups

AGENCY: National Marine Fisheries Service (NMFS), National Oceanic and Atmospheric Administration (NOAA), Commerce.

ACTION: Notice of Advisory Committee's Species Working Group meetings.

SUMMARY: The Advisory Committee (Committee) to the U.S. Section to the International Commission for the Conservation of Atlantic Tunas (ICCAT) announces two upcoming open session virtual meetings of its Species Working Groups, to be held June 22 and June 25, 2020.

DATES: The Species Working Groups will meet in two open sessions, on June 22, 2020, 1 p.m. to 4 p.m. and June 25, 2020, 2:30 p.m. to 4:30 p.m. The Species Working Groups will separately convene several closed session meetings, which will take place between June 22 and June 24, 2020, and are not open to the public.

ADDRESSES: Please register to attend the virtual meeting at https://forms.gle/JPjSkcxBVFdfXjzy7. Instructions will be emailed to registered meeting participants before the meetings occur.

FOR FURTHER INFORMATION CONTACT: Terra Lederhouse at Terra.Lederhouse@noaa.gov.

SUPPLEMENTARY INFORMATION: The Advisory Committee to the U.S. Section to ICCAT will meet in open session to receive and discuss information on NMFS research and monitoring activities and the results of the meetings of the Committee's Species Working Groups. The public will have access to the open sessions of the meeting. There will be no virtual session for public comment but the Species Working Groups will review any comments submitted in writing for its consideration. The agenda is available from the Committee's Executive Secretary upon request (see FOR FURTHER INFORMATION CONTACT).

The Committee will convene separate closed session Species Working Groups between June 22 and June 24, 2020. These sessions are not open to the public, but the results of the Species Working Group discussions will be reported to the full Advisory Committee during the Committee's open session on June 25, 2020.

Special Accommodations

Requests for sign language interpretation or other auxiliary aids should be directed to Terra Lederhouse at Terra.Lederhouse@noaa.gov at least 5 days prior to the meeting date.

Dated: June 3, 2020.
Alexa Cole,
Director, Office of International Affairs and Seafood Inspection, National Marine Fisheries Service.

[FR Doc. 2020-12354 Filed 6-5-20; 8:45 am]

BILLING CODE 3510-22-P